DEPARTMENT OF HEALTH AND HUMAN SERVICES

Centers for Disease Control and Prevention

[60Day-02-18]

Proposed Data Collections Submitted for Public Comment and Recommendations

In compliance with the requirement of section 3506(c)(2)(A) of the Paperwork Reduction Act of 1995 for opportunity for public comment on proposed data collection projects, the Centers for Disease Control and Prevention (CDC) will publish periodic summaries of proposed projects. To request more information on the proposed projects or to obtain a copy of the data collection plans and instruments, call the CDC Reports Clearance Officer on (404) 639-7090. CDC is requesting an emergency clearance for this data collection and that OMB act on this package 3 weeks after the publication of this Federal Register Notice.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Send comments to Seleda Perryman, CDC Assistant Reports Clearance Officer, 1600 Clifton Road, MS-D24, Atlanta, GA 30333. Written comments should be received within 14 days of this notice.

Proposed Project: Program Evaluation of the Distribution of Antimicrobial Agents to Prevent Anthrax, Assessment of Adverse Events and Adherence—New—National Center for Infectious Disease (NCID), Centers for Disease Control and Prevention. A 60-day course of antimicrobial prophylaxis has been recommended for approximately 7,500 persons with exposures to Bacillus anthracis related to bioterrorist attacks. To provide the antimicrobial agents necessary to meet this need, the National Pharmaceutical Stockpile (NPS) and the Centers for Disease Control and Prevention (CDC) has continued to support state and local health departments in responding to a nationwide public health emergency. This support has consisted of both the provision of additional antimicrobial agents as well as technical assistance from CDC to ensure effective transfer and distribution of supplies and medications, assess ongoing needs, and assist in management of other issues arising from the distribution of stockpile materials.

In order to evaluate this program, a telephone interview will be administered to persons who were recommended to receive 60 days of antibiotics after potential exposure to anthrax. The purpose of this interview will be to assess the provision of stockpile medications at 60 days after initiation of prophylactic campaigns for inhalation anthrax, assess the number of antibiotic-related adverse events, and determine the adherence to antimicrobial regimens. Results of this evaluation will be an important tool to determine the level and characteristics of technical assistance that the NPS and CDC will need to provide with any future anthrax post-exposure prophylaxis campaigns. This systematic approach to evaluation of an essential organization practice in public health will be used to improve public health actions. There is no cost to the respondent.

Respondents | Number of respondents | Number of responses/respondent | Average burden per response (in hours) | Total burden (in hours)
Telephone interview | 7,500 | 1 | 5/60 | 625
Total |  |  |  | 625

Dated: December 10, 2001.
Nancy E. Cheal,
Acting Associate Director for Policy, Planning and Evaluation, Centers for Disease Control, and Prevention.

[FR Doc. 01-30950 Filed 12-14-01; 8:45 am]

BILLING CODE 4163-18-P